DEPARTMENT OF ENERGY

Federal Energy Regulatory Commission

Notice of Application Accepted for Filing and Soliciting Motions To Intervene and Protests

August 16, 2001.

Take notice that the following hydroelectric application has been filed with the Commission and is available for public inspection.

a. Type of Application: Original Major License.

b. Project No.: P-12020-000.

c. Date filed: May 14, 2001.

d. Applicant: Marseilles Hydro Power, LLC.

e. Name of Project: Marseilles Hydroelectric Project.

f. Location: On the Illinois River, in the Town of Marseilles, La Salle County, Illinois. The project affects 0.6 acres of public lands owned by the U.S. Army Corps of Engineers.

g. Filed Pursuant to: Federal Power Act 16 U.S.C. 791(a)—825(r).

h. Applicant Contact: Mr. Loyal Gake, P.E., Marseilles Hyro Power, LLC, 116 State Street, P.O. Box 167, Neshkoro, WI 54960.

i. FERC Contact: Steve Kartalia, (202) 219-2942 or stephen.kartalia@FERC.fed.us.

j. Deadline for filing motions to intervene and protests: 60 days from the issuance date of this notice.

All documents (original and eight copies) should be filed with: David P. Boergers, Secretary, Federal Energy Regulatory Commission, 888 First Street, NE, Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Interventions and protests may be filed electronically via the Internet in lieu of paper. See 18 CFR 385.2001(a)(1)(iii) and the instructions on the Commission's web site (http://www.ferc.gov) under the “e-Filing” link.

k. The application is not ready for environmental analysis at this time.

l. The Marseilles Hydroelectric Project utilizes the Marseilles Dam and Reservoir which is owned and operated by the U.S. Army Corps of Engineers. The existing run-of-river project consists of: (1) A 55-foot-high by 40-foot-wide by 229-foot-long reinforced concrete powerhouse, housing thirteen generating units for a total installed capacity of 4,745-kW; (2) a head gate structure consisting of a fixed dam approximately 95 feet long on the left (west) side and two steel 15-foot-high and 60-foot-wide gates on the right (east) side; (3) the North Channel Headrace which is approximately 2,730-foot-long, 15-foot-deep, and varies between 800-to 200-foot-wide and conveys water from the head gates to the powerhouse; (4) a new 210-foot-long trash racks along the upstream side of the forebay area set at 10-degree angle in 18 feet of water with an additional set of 40-foot-long trash racks along the wall between the turbine forebay and the sluiceway on the right (west) side of the powerhouse and set vertically in 15 feet of water; and (5) appurtenant facilities.

The applicant proposes to rebuild the project in two phases: (a) In the first phase, seven generating units will be restored to operation; and (b) in the second phase, the remaining six generating units will be restored. The total project capacity will be 4,745 kW with an annual average generation of 34,000 MWh.

m. A copy of the application is available for inspection and reproduction at the Commission's Public Reference Room, located at 888 First Street, NE, Room 2-A, Washington, D.C. 20426, or by calling (202) 208-1371. The application may be viewed on http://www.ferc.fed.us/online/rims.htm (call (202) 208-2222 for assistance). A copy is also available for inspection and reproduction at the address in item h above.

n. Individuals desiring to be included on the Commission's mailing list should so indicate by writing to the Secretary of the Commission.

Development Application—Public notice of the filing of the initial development application, which has already been given, established the due date for filing competing applications or notices of intent. Under the Commission's regulations, any competing development application must be filed in response to and in compliance with public notice of the initial development application. No competing applications or notices of intent may be filed in response to this notice.

Protests or Motions to Intervene—Anyone may submit a protest or a motion to intervene in accordance with the requirements of Rules of Practice and Procedure, 18 CFR 385.210, 385.211, and 385.214. In determining the appropriate action to take, the Commission will consider all protests filed, but only those who file a motion to intervene in accordance with the Commission's Rules may become a party to the proceeding. Any protests or motions to intervene must be received on or before the specified deadline date for the particular application.

Filing and Service of Responsive Documents—The application is not ready for environmental analysis at this time; therefore, the Commission is not now requesting comments, recommendations, terms and conditions, or prescriptions.

When the application is ready for environmental analysis, the Commission will issue a public notice requesting comments, recommendations, terms and conditions, or prescriptions.

All filings must (1) bear in all capital letters the title “PROTEST” or “MOTION TO INTERVENE;” (2) set forth in the heading the name of the applicant and the project number of the application to which the filing responds; (3) furnish the name, address, and telephone number of the person protesting or intervening; and (4) otherwise comply with the requirements of 18 CFR 385.2001 through 385.2005. Agencies may obtain copies of the application directly from the applicant. Any of these documents must be filed by providing the original and the number of copies required by the Commission's regulations to: The Secretary, Federal Energy Regulatory Commission, 888 First Street, NE, Washington, DC 20426. An additional copy must be sent to Director, Division Environmental and Engineering Review, Office of Energy Projects, Federal Energy Regulatory Commission, at the above address. A copy of any protest or motion to intervene must be served upon each representative of the applicant specified in the particular application.

David P. Boergers,
Secretary.

[FR Doc. 01-21112 Filed 8-21-01; 8:45 am]

BILLING CODE 6717-01-U